NATIONAL AERONAUTICS AND SPACE ADMINISTRATION

[Notice 02-139]

Government-Owned Inventions, Available for Licensing

ACTION: Notice of availability of inventions for licensing.

SUMMARY: The invention listed below is assigned to the National Aeronautics and Space Administration, have been filed in the United States Patent and Trademark Office, and are available for licensing.

DATES: November 12, 2002.

FOR FURTHER INFORMATION CONTACT: Randy Heald, Patent Counsel, Kennedy Space Center, Mail Code CC-A, Kennedy Space Flight Center, FL 32899; telephone (321) 867-7214, fax (321) 867-1817.

NASA Case No. KSC-12220: Current Signature Sensor;

NASA Case No. KSC-12296: Signal-Conditioning Amplifier Recorder.

Dated: November 4, 2002.
Robert M. Stephens,
Deputy General Counsel.

[FR Doc. 02-28567 Filed 11-8-02; 8:45 am]

BILLING CODE 7510-01-P